DEPARTMENT OF DEFENSE

Department of the Army

[Docket ID: USA-2008-0041]

Privacy Act of 1974; System of Records

AGENCY: Department of the Army, DoD.

ACTION: Notice to Amend a System of Records.

SUMMARY: The Department of the Army is amending a system of records notice in its existing inventory of record systems subject to the Privacy Act of 1974 (5 U.S.C. 552a), as amended.

DATES: This proposed action will be effective without further notice on August 25, 2008 unless comments are received which result in a contrary determination.

ADDRESSES: Department of the Army, Freedom of Information/Privacy Division, U.S. Army Records Management and Declassification Agency, 7701 Telegraph Road, Casey Building, Suite 144, Alexandria, VA 22325-3905.

FOR FURTHER INFORMATION CONTACT: Ms. Vicki Short at (703) 428-6508.

SUPPLEMENTARY INFORMATION: The Department of the Army systems of records notices subject to the Privacy Act of 1974 (5 U.S.C. 552a), as amended, have been published in the Federal Register and are available from the address above.

The specific changes to the record system being amended are set forth below followed by the notice, as amended, published in its entirety. The proposed amendments are not within the purview of subsection (r) of the Privacy Act of 1974 (5 U.S.C. 552a), as amended, which requires the submission of a new or altered system report.

Dated: July 17, 2008.
Patricia L. Toppings,
OSD Federal Register Liaison Officer, Department of Defense.

A0190-9 DAMO

System name:

Absentee Case Files (March 4, 2002, 67 FR 9718).

Changes:

Change System Identifier to “A0190-9 OPMG”.

* * * * *

A0190-9 OPMG

System Name:

Absentee Case Files.

System location:

U.S. Army Personnel Control Facility, U.S. Army Desert Information Point, Building 1481, Fort Knox, KY 40121-5000.

Categories of individuals covered by the system:

Active duty Army, U.S. Army Reserve on active duty or in active duty training status, and Army National Guard personnel on active duty, absent without authority from their place of duty, listed as absentee, and/or who have been designated as a deserter.

Categories of records in the system:

Individual's name, Social Security Number, grade, reports and records which document the individual's absence; notice of unauthorized absence from U.S. Army which constitutes the warrant for arrest; notice of return to military control or continued absence in hands of civil authorities.

Authority for maintenance of the system:

10 U.S.C. 3013, Secretary of the Army, Army Regulation 190-9, Absentee Deserter Apprehension Program and Surrender of Military Personnel to Civilian Law Enforcement Agencies; Army Regulation 630-10, Absence Without Leave, Desertion, and Administration of Personnel Involved in Civilian Court Proceedings; and E.O. 9397 (SSN).

Purpose(s):

To enter data in the FBI National Crime Information Center ‘wanted person’ file; to ensure apprehension actions are initiated/terminated promptly and accurately; and to serve management purposes through examining causes of absenteeism and developing programs to deter unauthorized absences.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Information may be disclosed to the Department of Veterans Affairs for assistance in determining whereabouts of Army deserters through the Veterans and Beneficiaries Identification and Records Locator Subsystem.

The DoD ‘Blanket Routine Uses’ set forth at the beginning of the Army's compilation of systems of records notices also apply to this system.

Policies and practices for storing, retrieving, accessing, retaining, and disposing of records in the system:

Storage:

Paper documents and the record copy of the Arrest Warrant are maintained in the Official Military Personnel Files; verified desertion data are stored on the Deserter Verification Information System at the U.S. Army Deserter Information Point.

Retrievability:

Manually, by name; automated records are retrieved by name, plus any numeric identifier such as date of birth, Social Security Number, or Army serial number.

Safeguards:

Access is limited to authorized individuals having a need-to-know. Records are stored in facilities manned 24 hours, 7 days a week. Additional controls which meet the physical, administrative, and technical safeguard requirements of Army Regulation 380-19, Information Systems Security, are in effect.

Retention and disposal:

Automated records are erased when individual returns to military custody, is discharged, or dies. Paper or microform records remain a permanent part of the individual's Official Military Personnel File.

System manager(s) and address:

Deputy Chief of Staff for Operations and Plans, ATTN: DAMO-ODL, Headquarters, Department of the Army, Washington, DC 20310-0440.

Notification procedure:

Individuals seeking to determine whether information about themselves is contained in this system should address written inquiries to the U.S. Army Deserter Information Point, U.S. Army Enlisted Records Center, Indianapolis, IN 42649-5301.

Individual should provide the full name, Social Security Number and/or Army serial number, address, telephone number and signature.

Record access procedures:

Individuals seeking access to information about themselves contained in this system should address written inquiries to the U.S. Army Deserter Information Point, U.S. Army Enlisted Records Center, Indianapolis, IN 46249-5301.

Individual should provide the full name, Social Security Number and/or Army serial number, address, telephone number and signature.

Contesting record procedures:

The Army's rules for accessing records, and for contesting contents and appealing initial agency determinations are contained in Army Regulation 340-21; 32 CFR part 505; or may be obtained from the system manager.

Record source categories:

Unit commander, first sergeants, subjects, witnesses, military police, U.S. Army Criminal Investigation Command personnel and special agents, informants, Department of Defense, federal, state, and local investigative and law enforcement agencies, departments or agencies of foreign governments, and any other individuals or organizations which may furnish pertinent information.

Exemptions claimed for the system:

Parts of this system may be exempt pursuant to 5 U.S.C. 552a(j)(2) if the information is compiled and maintained by a component of the agency which performs as its principle function any activity pertaining to the enforcement of criminal laws.

An exemption rule for this system has been promulgated in accordance with requirements of 5 U.S.C. 553(b)(1), (2), and (3), (c) and (e) and published in 32 CFR part 505. For additional information contact the system manager.

[FR Doc. E8-17013 Filed 7-24-08; 8:45 am]

BILLING CODE 5001-06-P